DEPARTMENT OF ENERGY

Federal Energy Regulatory Commission

Combined Notice of Filings #1

Take notice that the Commission received the following electric corporate filings:

Docket Numbers: EC24-97-000.

Applicants: Hickory Run Energy, LLC.

Description: Application for Authorization Under Section 203 of the Federal Power Act of Hickory Run Energy, LLC.

Filed Date: 7/1/24.

Accession Number: 20240701-5440.

Comment Date: 5 p.m. ET 7/22/24.

Take notice that the Commission received the following exempt wholesale generator filings:

Docket Numbers: EG24-217-000.

Applicants: Chillingham Solar LLC.

Description: Chillingham Solar LLC submits Notice of Self-Certification of Exempt Wholesale Generator Status.

Filed Date: 7/1/24.

Accession Number: 20240701-5372.

Comment Date: 5 p.m. ET 7/22/24.

Take notice that the Commission received the following electric rate filings:

Docket Numbers: ER10-1936-010.

Applicants: Carville Energy LLC.

Description: Triennial Market Power Analysis for Central Region of Carville Energy LLC.

Filed Date: 7/1/24.

Accession Number: 20240701-5439.

Comment Date: 5 p.m. ET 8/30/24.

Docket Numbers: ER10-2405-016.

Applicants: High Prairie Wind Farm II, LLC.

Description: Triennial Market Power Analysis for Central Region of High Prairie Wind Farm II, LLC.

Filed Date: 7/1/24.

Accession Number: 20240701-5444.

Comment Date: 5 p.m. ET 8/30/24.

Docket Numbers: ER10-2596-016.

Applicants: Fowler Ridge II Wind Farm LLC.

Description: Triennial Market Power Analysis for Central Region of Fowler Ridge II Wind Farm LLC.

Filed Date: 7/1/24.

Accession Number: 20240701-5445.

Comment Date: 5 p.m. ET 8/30/24.

Docket Numbers: ER11-4633-007.

Applicants: Madison Gas and Electric Company.

Description: Triennial Market Power Analysis for Central Region of Madison Gas and Electric Company.

Filed Date: 7/1/24.

Accession Number: 20240701-5446.

Comment Date: 5 p.m. ET 8/30/24.

Docket Numbers: ER12-1183-001.

Applicants: UGI Development Company.

Description: Compliance filing: Informational Filing Re: Upstream Control, Waivers, & Expedition ER12-1183 to be effective N/A.

Filed Date: 7/2/24.

Accession Number: 20240702-5111.

Comment Date: 5 p.m. ET 7/23/24.

Docket Numbers: ER12-1933-017; ER12-1934-015.

Applicants: Wisconsin Power and Light Company, Interstate Power and Light Company.

Description: Triennial Market Power Analysis for Central Region of Interstate Power and Light Company, et al.

Filed Date: 7/1/24.

Accession Number: 20240701-5442.

Comment Date: 5 p.m. ET 8/30/24.

Docket Numbers: ER17-1329-002.

Applicants: J.P. Morgan Ventures Energy Corporation.

Description: Triennial Market Power Analysis for Central Region of J.P. Morgan Ventures Energy Corporation.

Filed Date: 7/1/24.

Accession Number: 20240701-5443.

Comment Date: 5 p.m. ET 8/30/24.

Docket Numbers: ER18-649-003.

Applicants: Hunlock Energy, LLC.

Description: Compliance filing: Informational Filing Re: Upstream Control, Waivers, & Expedition ER18-649-to be effective N/A.

Filed Date: 7/2/24.

Accession Number: 20240702-5115.

Comment Date: 5 p.m. ET 7/23/24.

Docket Numbers: ER20-681-009.

Applicants: Tri-State Generation and Transmission Association, Inc.

Description: Triennial Market Power Analysis for Southwest Power Pool Inc. Region of Tri-State Generation and Transmission Association, Inc.

Filed Date: 7/1/24.

Accession Number: 20240701-5447.

Comment Date: 5 p.m. ET 8/30/24.

Docket Numbers: ER20-1992-006.

Applicants: Public Service Company of New Mexico.

Description: Compliance filing: Amendment to Update eTariff Priortiy Order to be effective 1/27/2020.

Filed Date: 7/1/24.

Accession Number: 20240701-5306.

Comment Date: 5 p.m. ET 7/22/24.

Docket Numbers: ER24-1754-001.

Applicants: Southwest Power Pool, Inc.

Description: Compliance filing: Compliance Filing—Uninstructed Resource Deviation Charge to be effective 12/31/9998.

Filed Date: 7/2/24.

Accession Number: 20240702-5060.

Comment Date: 5 p.m. ET 7/23/24.

Docket Numbers: ER24-2446-000.

Applicants: Ameren Illinois Company.

Description: § 205(d) Rate Filing: Filing of a Reimbursement Agreement to be effective 8/30/2024.

Filed Date: 7/1/24.

Accession Number: 20240701-5307.

Comment Date: 5 p.m. ET 7/22/24.

Docket Numbers: ER24-2447-000.

Applicants: PJM Interconnection, L.L.C.

Description: § 205(d) Rate Filing: Revisions to RAA for Large Load Adjustments in Forecasted Capacity Obligations to be effective 8/31/2024.

Filed Date: 7/1/24.

Accession Number: 20240701-5380.

Comment Date: 5 p.m. ET 7/22/24.

Docket Numbers: ER24-2448-000.

Applicants: Wisconsin Electric Power Company.

Description: § 205(d) Rate Filing: Formula Rate Update Filing for 2023 Rate Year to be effective 9/1/2024.

Filed Date: 7/2/24.

Accession Number: 20240702-5039.

Comment Date: 5 p.m. ET 7/23/24.

Docket Numbers: ER24-2449-000.

Applicants: PJM Interconnection, L.L.C.

Description: § 205(d) Rate Filing: Original NSA No. 7300, Queue No. AC1-164 to be effective 8/2/2024.

Filed Date: 7/2/24.

Accession Number: 20240702-5065.

Comment Date: 5 p.m. ET 7/23/24.

Docket Numbers: ER24-2450-000.

Applicants: Lyons Solar, LLC.

Description: Tariff Amendment: Notice of Cancellation of Rate Schedule and Request for Waivers to be effective 7/3/2024.

Filed Date: 7/2/24.

Accession Number: 20240702-5131.

Comment Date: 5 p.m. ET 7/23/24.

Docket Numbers: ER24-2451-000.

Applicants: Nevada Power Company.

Description: § 205(d) Rate Filing: Revised Certificate of Concurrence_First Revised NorthernGrid Funding Agmt to be effective 1/1/2024.

Filed Date: 7/2/24.

Accession Number: 20240702-5153.

Comment Date: 5 p.m. ET 7/23/24.

Docket Numbers: ER24-2452-000.

Applicants: Idaho Power Company

Description: § 205(d) Rate Filing: Concurrence—RS 170—NorthernGrid Funding Agreement to be effective 1/1/2024.

Filed Date: 7/2/24.

Accession Number: 20240702-5160.

Comment Date: 5 p.m. ET 7/23/24.

Docket Numbers: ER24-2453-000

Applicants: Glover Creek Solar, LLC.

Description: Tariff Amendment: Notice of Cancellation of Rate Schedule Tariff to be effective 7/3/2024.

Filed Date: 7/2/24.

Accession Number: 20240702-5164.

Comment Date: 5 p.m. ET 7/23/24.

Docket Numbers: ER24-2454-000.

Applicants: Southwest Power Pool, Inc.

Description: § 205(d) Rate Filing: 1875R7 Kansas Electric Power Cooperative, Inc. NITSA and NOA to be effective 9/1/2024.

Filed Date: 7/2/24.

Accession Number: 20240702-5167.

Comment Date: 5 p.m. ET 7/23/24.

Docket Numbers: ER24-2455-000.

Applicants: Southwest Power Pool, Inc.

Description: § 205(d) Rate Filing: 1636R30 Kansas Electric Power Cooperative, Inc. NITSA and NOA to be effective 9/1/2024.

Filed Date: 7/2/24.

Accession Number: 20240702-5179.

Comment Date: 5 p.m. ET 7/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 2, 2024.
Debbie-Anne A. Reese,
Acting Secretary.

[FR Doc. 2024-15073 Filed 7-9-24; 8:45 am]

BILLING CODE 6717-01-P